DEPARTMENT OF ENERGY

Federal Energy Regulatory Commission

[Docket No. IC25-5-000]

Commission Information Collection Activities (FERC-545); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC 545: Gas Pipeline Rates: Rate Change (Non-Formal).

DATES: Comments on the collection of information are due March 10, 2025.

ADDRESSES: You may submit copies of your comments (identified by Docket No. IC25-5-000) by one of the following methods:

Electronic filing through http://www.ferc.gov is preferred.

• Electronic Filing: Documents must be filed in acceptable native applications and print-to-PDF, but not in scanned or picture format.

• For those unable to file electronically, comments may be submitted to FERC as follows:

○ Mail via U.S. Postal Service Only: Federal Energy Regulatory Commission, Secretary of the Commission, 888 First Street NE, Washington, DC 20426.

○ All other services (including courier): Federal Energy Regulatory Commission, Secretary of the Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Kayla Williams may be reached by email at DataClearance@FERC.gov, telephone at (202) 502-6468.

SUPPLEMENTARY INFORMATION:

Title: FERC-545: Gas Pipeline Rates: Rate Change (Non-formal)

OMB Control No.: 1902-0154

Type of Request: Three-year extension of the FERC-545 information collection requirements with no changes to the reporting requirements.

Abstract: FERC-545 is required to implement sections 4, 5, and 16 of the Natural Gas Act (NGA) (15 U.S.C. 717c, 717d, and 717o). NGA Sections 4, 5, and 16 authorize the Commission to inquire into rate structures and methodologies and to set rates at a just and reasonable level. Specifically, a natural gas company must obtain Commission authorization for all rates and charges made, demanded, or received in connection with the transportation or sale of natural gas in interstate commerce. FERC-545 consists of: (1) Tariff Filings which are filings regarding proposed changes to a pipeline's tariff and any related compliance filings; (2) Rate Filings which are rate-related filings under NGA sections 4 and 5 and any related compliance filings and settlements; (3) Informational Reports, for example, annual reconciliation reports.; (4) Negotiated Rates and Non-Conforming Agreement Filings; (5) North American Energy Standards Board (NAESB) Filings; (6) Market-Based Rates for Storage Filings; and (6) the Labor-Wage Policy which allows jurisdictional entities to include wages consistent with project-area standards in cost-of-service rates filed with the Commission where the record supports that outcome.

Under the NGA, a natural gas company's rates must be just and reasonable and not unduly discriminatory or preferential. The Commission may act under different sections of the NGA to effect a change in a natural gas company's rates. When the Commission reviews rate increases that a natural gas company has proposed, it is subject to the requirement of section 4(e) of the NGA. These types of filings are referred to as general section 4 rate cases. In the proceedings, the Commission reviews a pipeline's rates and services. A pipeline can file a general section 4 rate case anytime it wishes, provided the pipeline did not agree otherwise in a settlement. A pipeline must demonstrate that the new rates it proposes to charge are just and reasonable. When a rate increase filing is made pursuant to section 4, the application is typically suspended and set for hearing by a Commission Order. On the other hand, when the Commission seeks to impose its own rate determination, it must do so in compliance with section 5(a) of the NGA. Under section 5, the Commission must first establish and demonstrate that a pipeline's existing rate is no longer just and reasonable.

Section 16 of the NGA states that the Commission “shall have the power to perform any and all acts, and to prescribe, issue, make, amend, and rescind such orders, rules, and regulations as it may find necessary or appropriate to carry out provisions of [the NGA].” In other words, section 16 of the NGA grants the Commission the power to define accounting, technical and trade terms, prescribe forms, statements, declarations or reports and to prescribe rules and regulations.

Pipelines adjust their tariffs to meet market and customer needs. Commission review of these proposed changes is required to ensure rates remain just and reasonable and that services are not provided in an unduly or preferential manner. The Commission's regulation in 18 CFR part 154 specifies what changes are allowed and the procedures for requesting Commission approval.

Type of Respondents: Jurisdictional natural gas companies.

Estimate of Annual Burden: ¹ The Commission estimates the annual public reporting burden for the information collection as:

¹ Burden is defined as the total time, effort, or financial resources expended by persons to generate, maintain, retain, or disclose or provide information to or for a Federal agency. Refer to 5 CFR 1320.3 for additional information.

FERC-545: Gas Pipeline Rates: Rate Change (Non-Formal)
[No change]
| Number of respondents | Average number of responses per respondent | Total number of responses | Average burden & cost per response ² | Total annual burden hours & total annual cost | Cost per respondent ($)
| (1) | (2) | (1) * (2) = (3) | (4) | (3) * (4) = (5) | (5) ÷ (1)
Tariff Filings | 141 | 3 | 423 | 211 hrs.; $22,999 | 89,253 hrs.; $9,728,577 | $68,997
Rate Filings | 19 | 2 | 38 | 354 hrs.; $38,586 | 13,452 hrs.; $1,466,268 | 77,172
Informational Reports | 80 | 2 | 160 | 235 hrs.; $25,615 | 37,600 hrs.; $4,098,400 | 51,230
Negotiated Rates & Non-Conforming Agreement Filings | 75 | 8 | 600 | 233 hrs.; $25,397 | 139,800 hrs.; $15,238,200 | 203,176
Market-Base Rates for Storage Filings | 2 | 1 | 2 | 230 hrs.; $25,070 | 460 hrs.; $50,140 | 25,070
NAESB (version 3.2) one time over 3 years carried over from RM96-1-042 ³ | 59.33 | 1 | 59.33 | 10 hrs.; $1,090 | 593.30 hrs.; $64,669.70 | 1,090
Labor-Wage Policy ⁴ | 11 | 1 | 11 | 15 hrs.; $1,635 | 165 hrs.; $17,985 | 1,635
Total (Including Section 4 Rate Cases) |  |  | 1,293 (rounded) |  | 281,323 hrs. (rounded); $30,664,240 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The estimated hourly cost (salary plus benefits) provided in this section is based on the salary figures for May 2024 posted by the Bureau of Labor Statistics for the Utilities sector (available at https://www.bls.gov/oes/current/naics3_221000.htm) and scaled to reflect benefits using the relative importance of employer costs for employee compensation from March 2024 available at https://www.bls.gov/news.release/ecec.nr0.htm). The hourly estimates for salary plus benefits are: Computer and Information Systems Manager (Occupation Code: 11-3021), $115.47; Computer and Information Analysts (Occupation Code: 15-1210), $80.10; Electrical Engineer (Occupation Code: 17-2071), $79.31; Legal (Occupation Code: 23-0000), $162.66. The average hourly cost (salary plus benefits) weighting all of the above skill sets evenly, is $109.38. We round it to $109/hour.

³ At the time of this notice for extension request, Docket No. RM96-1-043 was issued by the Commission on November 22, 2024. The Order updated the requirement to reflect the Wholesale Gas Quadrant (WGQ) 4.0 standards. OMB has not yet approved this modification as it has not published in the Federal Register, which is required for Information Collection Requests (ICRs) to be submitted. However, to prevent a lapse in the approval of the existing collection's expiration date, the Commission is publishing this Notice with the currently approved burden estimates that involve the NAESB standards (59.33 responses). The updated burden estimates for the NAESB revisions will increase the burden to 64.33 (rounded) responses, which is the average number of responses per annum.

⁴ Project-Area Wage Standards in the Labor Cost Component of Cost-of-Service Rates under Docket No. PL24-1-000 was issued on March 21, 2024, which allows jurisdictional entities to include wages consistent with project-area standards in cost-of-service rates filed with the Commission where the record supports that outcome.

Dated: January 2, 2025.
Debbie-Anne A. Reese,
Secretary.

[FR Doc. 2025-00232 Filed 1-7-25; 8:45 am]

BILLING CODE 6717-01-P